DEPARTMENT OF HOMELAND SECURITY

Federal Emergency Management Agency

44 CFR Part 67

[Docket No. FEMA-D-7808]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Avery County, North Carolina and Incorporated Areas
Beech Creek | At the confluence with Watauga River | None | +2,444 | Unincorporated Areas of Avery County.
| Approximately 1,100 feet upstream of the confluence of Buckeye Creek | None | +2,776
Brushy Creek | At the confluence with North Toe River | None | +2,622 | Unincorporated Areas of Avery County.
| Approximately 2.0 miles upstream of the confluence with North Toe River | None | +2,792
Buckeye Creek | At the confluence with Beech Creek | None | +2,731 | Unincorporated Areas of Avery County.
| Approximately 950 feet upstream of the confluence of Clingman Mine Branch | None | +2,940
Clear Creek | At the confluence with North Toe River | None | +2,776 | Unincorporated Areas of Avery County.
| Approximately 1,300 feet upstream of the confluence with North Toe River | None | +2,816
Cranberry Creek | At the confluence with Elk River | None | +2,898 | Unincorporated Areas of Avery County.
| Approximately 0.5 mile upstream of Substation Road | None | +3,113
Curtis Creek | At the confluence with Elk River | None | +3,036 | Unincorporated Areas of Avery County.
| Approximately 170 feet downstream of Alton Palmer Road (State Road 1324) | None | +3,249
Elk River | At the North Carolina/Tennessee state boundary | None | +2,693 | Unincorporated Areas of Avery County, Town of Banner Elk.
| Approximately 0.5 mile upstream of Glove Factory Lane | +3,672 | +3,673
Tributary 1 | At the North Carolina/Tennessee state boundary | None | +2,772 | Unincorporated Areas of Avery County.
| Approximately 1,500 feet upstream of the confluence of Hanging Rock Creek | None | +3,198
Fall Creek | At the confluence with Elk River | None | +2,713 | Unincorporated Areas of Avery County.
| Approximately 0.8 mile upstream of the confluence with Elk River | None | +3,174
Gragg Prong Creek | At the confluence with Lost Cove Creek | None | +1,707 | Unincorporated Areas of Avery County.
| Approximately 1,350 feet upstream of the confluence with Webb Creek | None | +2,199
Hanging Rock Creek | At the confluence with Elk River | +3,656 | +3,658 | Unincorporated Areas of Avery County, Town of Banner Elk.
| Approximately 160 feet downstream of Dobbins Road (State Road 1337) | None | +3,848
Henson Creek | At the confluence with North Toe River | None | +2,838 | Unincorporated Areas of Avery County.
| Approximately 700 feet upstream of Henson Creek Road (State Road 1126) | None | +3,351
Horney Creek | At the confluence with Elk River | None | +3,391 | Unincorporated Areas of Avery County, Town of Banner Elk.
| Approximately 1,620 feet upstream of Banner Elk Highway/US-194 | None | +3,586
Horse Bottom Creek | At the confluence with Hanging Rock Creek | +3,685 | +3,686 | Unincorporated Areas of Avery County, Town of Banner Elk.
| Approximately 650 feet upstream of Guignard Lane | None | +3,774
Kentucky Creek | At the confluence with North Toe River | +3,586 | +3,590 | Unincorporated Areas of Avery County, Town of Newland.
| Approximately 0.5 mile upstream of Damon Vance Lane | None | +3,762
Little Elk Creek | At the confluence with Elk River | None | +2,865 | Unincorporated Areas of Avery County, Town of Elk Park.
| Approximately 0.8 mile upstream of Little Elk Road (State Road 1173) | None | +3,716
Tributary 1 | At the confluence with Little Elk Creek | None | +2,897 | Unincorporated Areas of Avery County, Town of Elk Park.
| Approximately 140 feet upstream of Brooks Shell Road (State Road 1171) | None | +3,564
Tributary 1A | At the confluence with Little Elk Creek Tributary 1 | None | +3,098 | Unincorporated Areas of Avery County, Town of Elk Park.
| Approximately 1,420 feet upstream of Brooks Shell Road (State Road 1171) | None | +3,445
Tributary 2 | At the confluence with Little Elk Creek | None | +3,037 | Unincorporated Areas of Avery County, Town of Elk Park.
| Approximately 260 feet upstream of Cliff Taylor Lane | None | +3,146 |
North Toe River | Approximately 1.3 miles downstream of the confluence of Brushy Creek | None | +2,605 | Unincorporated Areas of Avery County, Town of Newland.
| At the confluence of Hickorynut Branch | None | +3,770 |
Plumtree Creek | At the confluence with North Toe River | None | +2,865 | Unincorporated Areas of Avery County.
| Approximately 1.0 mile upstream of US-19 | None | +2,957 |
Roaring Creek | At the confluence with North Toe River | None | +2,966 | Unincorporated Areas of Avery County.
| Approximately 2.7 miles upstream of Roaring Creek Road (State Road 1132) | None | +4,240 |
Shawneehaw Creek | Approximately 300 feet upstream of the confluence with Elk River | None | +3,644 | Unincorporated Areas of Avery County, Town of Banner Elk.
| Approximately 270 feet upstream of Gualtney Road (State Road 1335) | None | +3,962 |
Tributary 1 | At the confluence with Shawneehaw Creek | None | +3,813 | Unincorporated Areas of Avery County, Town of Banner Elk.
| Approximately 880 feet upstream of Balm Highway/US-194 | None | +3,871 |
Shoemaker Creek | At the confluence with Shawneehaw Creek | None | +3,796 | Unincorporated Areas of Avery County, Town of Banner Elk.
| Approximately 400 feet upstream of Shoemaker Road | None | +3,882 |
Sugar Creek | Approximately 150 feet upstream of the confluence with Elk River | +3,682 | +3,681 | Unincorporated Areas of Avery County, Town of Banner Elk.
| Approximately 1,250 feet upstream of Mac Lane | None | +3,727 |
Threemile Creek | At the confluence with North Toe River | None | +2,756 | Unincorporated Areas of Avery County.
| Approximately 0.8 mile upstream of Greenway Lane | None | +2,853 |
Trivett Branch | At the North Carolina/Tennessee state boundary | None | +2,644 | Unincorporated Areas of Avery County.
| Approximately 700 feet upstream of the confluence with Trivett Branch Tributary 3 | None | +2,995 |
Tributary 1 | At the North Carolina/Tennessee state boundary | None | +2,633 | Unincorporated Areas of Avery County.
| Approximately 700 feet upstream of the confluence of Trivett Branch Tributary 1A | None | +2,841 |
Tributary 1A | At the confluence with Trivett Branch Tributary 1 | None | +2,760 | Unincorporated Areas of Avery County.
| Approximately 720 feet upstream of the confluence with Trivett Branch Tributary 1 | None | +2,890 |
Tributary 2 | At the confluence with Trivett Branch | None | +2,650 | Unincorporated Areas of Avery County.
| Approximately 1,150 feet upstream of the confluence with Trivett Branch | None | +2,754 |
Tributary 3 | At the confluence with Trivett Branch | None | +2,968 | Unincorporated Areas of Avery County.
| Approximately 370 feet upstream of Dark Ridge Road (State Road 1310) | None | +2,998 |
Watauga River | At the North Carolina/Tennessee state boundary | None | +2,142 | Unincorporated Areas of Avery County.
| At the confluence of Beech Creek | None | +2,446 |
Whitehead Creek | At the confluence with Elk River | None | +3,404 | Unincorporated Areas of Avery County, Town of Banner Elk.
| Approximately 100 feet upstream of Tumbling Brook Drive | None | +3,764 |
* National Geodetic Vertical Datum.
+ North American Vertical Datum.
# Depth in feet above ground.
ADDRESSES
Town of Banner Elk
Maps are available for inspection at the Banner Elk Town Hall, 200 Park Avenue, Banner Elk, North Carolina.
Send comments to The Honorable Deka Tate, Mayor of the Town of Banner Elk, P.O. Box 2049, Banner Elk, North Carolina 28604.
Town of Elk Park
Maps are available for inspection at the Elk Park Town Hall, 169 Winters Street, Elk Park, North Carolina.
Send comments to The Honorable Darlene Hicks, Mayor of the Town of Elk Park, P.O. Box 248, Elk Park, North Carolina 28622.
Town of Newland
Maps are available for inspection at the Newland Town Hall, 301 Cranberry Street, Newland, North Carolina.
Send comments to The Honorable Valerie Jaynes, Mayor of the Town of Newland, P.O. Box 429, Newland, North Carolina 28657.
Unincorporated Areas of Avery County
Maps are available for inspection at the Avery County Courthouse, 100 Montezuma Street, Newland, North Carolina.
Send comments to Mr. Kenny Poteat, Chairman of the Avery County Board of Commissioners, P.O. Box 640, Newland, North Carolina 28657.
Henderson County, North Carolina and Incorporated Areas
Allen Branch | At the confluence with Clear Creek | None | +2,081 | Unincorporated Areas of Henderson County, City of Hendersonville.
| Approximately 200 feet upstream of Luther Capell Lane | None | +2,183 |
Bat Fork Creek | At the confluence with Mud Creek | +2,084 | +2,082 | Unincorporated Areas of Henderson County, City of Hendersonville.
| Approximately 200 feet upstream of U.S. 176 | None | +2,159 |
Battle Creek | At the downstream side of U.S. 64 | None | +2,069 | Unincorporated Areas of Henderson County.
| Approximately 0.4 mile upstream of Battle Creek Road (State Road 1211) | None | +2,082
Big Willow Creek | Approximately 0.4 mile upstream of the confluence with French Broad River | None | +2,081 | Unincorporated Areas of Henderson County.
| At the confluence of South Fork Big Willow Creek and North Fork Big Willow Creek | None | +2,081
Tributary 1 | Approximately 1,200 feet upstream of the confluence with Big Willow Creek | +2,081 | +2,104 | Unincorporated Areas of Henderson County.
| Approximately 40 feet upstream of Lakeshore Drive | +2,081 | +2,109
Boylston Creek | Approximately 50 feet downstream of Banner Farm Road | +2,173 | +2,172 | Town of Mills River.
| Approximately 230 feet upstream of Turkey Pen Gap Road | None | +2,190
Tributary 7 | At the confluence with Boylston Creek | None | +2,103 | Unincorporated Areas of Henderson County, Town of Mills River.
| Approximately 1,090 feet upstream of Cross Creek Court | None | +2,128
Britton Creek | At the confluence with Mud Creek | +2,082 | +2,081 | Unincorporated Areas of Henderson County, City of Hendersonville.
| Approximately 90 feet upstream of Mistletoe Trail | None | +2,284
Tributary 2 | At the confluence with Britton Creek | +2,083 | +2,082 | Unincorporated Areas of Henderson County, City of Hendersonville.
| Approximately 150 feet upstream of Stonebrook Drive (State Road 2050) | None | +2,154
Broad River | At the Henderson/Rutherford County boundary | None | +1,411 | Unincorporated Areas of Henderson County.
| At the Buncombe/Henderson County boundary | None | +1,719
Cane Creek | Approximately 100 feet upstream of I-26 | +2,061 | +2,062 | Unincorporated Areas of Henderson County, Town of Fletcher.
| Approximately 350 feet downstream of the confluence with Robinson Creek | +2,095 | +2,094
Clear Creek | At the confluence with Mud Creek | +2,079 | +2,078 | Unincorporated Areas of Henderson County.
| Approximately 1.0 mile upstream of Apple Valley Road (State Road 1572) | None | +2,171
Devils Fork | At the confluence with Bat Fork Creek | +2,086 | +2,083 | Unincorporated Areas of Henderson County, City of Hendersonville.
| At Old Dana Road (State Road 1738) | +2,136 | +2,135
Dunn Creek | At the confluence with Bat Fork Creek | None | +2,099 | Unincorporated Areas of Henderson County, City of Hendersonville.
| Approximately 570 feet upstream of Howard Gap Road (State Road 1006) | None | +2,144
Featherstone Creek | At the confluence with Mud Creek | +2,071 | +2,069 | Unincorporated Areas of Henderson County.
| Approximately 240 feet upstream of Locust Grove Road (State Road 1528) | None | +2,253
Finley Creek | At the confluence with Perry Creek and Shepherd Creek | None | +2,131 | Unincorporated Areas of Henderson County.
| Approximately 1,980 feet upstream of Old Kanuga Road (State Road 1138) | None | +2,146
Gash Creek | Approximately 400 feet downstream of Etowah School Road (State Road 1205) | None | +2,081 | Unincorporated Areas of Henderson County.
| Approximately 1,250 feet upstream of U.S. 64 | None | +2,101
Green River | At the Henderson/Polk County boundary | None | +1,442 | Unincorporated Areas of Henderson County.
| Approximately 300 feet upstream of Bear Paw Ridge Road | None | +2,166
Henderson Creek | At the confluence with Clear Creek | None | +2,118 | Unincorporated Areas of Henderson County.
| Approximately 1,240 feet upstream of Pace Road (State Road 1762) | None | +2,146
Hickory Creek (near Gerton) | At the confluence with Broad River | None | +1,483 | Unincorporated Areas of Henderson County.
| Approximately 320 feet upstream of Boulder Lane | None | +3,652
Higgins Branch | At the confluence with Kimsey Creek | None | +2,062 | Town of Fletcher.
| Approximately 1,820 feet upstream of Birkshire Way | None | +2,178
Hoopers Creek | At the confluence with Cane Creek | +2,075 | +2,074 | Unincorporated Areas of Henderson County, Town of Fletcher.
| Approximately 30 feet downstream of Lindsey Loop Road (State Road 1571) | None | +2,181
Kimsey Creek | Approximately 50 feet upstream of U.S. 74 | +2,061 | +2,062 | Unincorporated Areas of Henderson County, Town of Fletcher.
| Approximately 1,880 feet upstream of Kimzey Creek Drive | None | +2,155
King Creek | At the confluence with Bat Fork Creek | None | +2,084 | Unincorporated Areas of Henderson County, City of Hendersonville, Village of Flat Rock.
| Approximately 0.5 mile upstream of West Blue Ridge Road (State Road 1812) | None | +2,178
Tributary 3 | At the confluence with King Creek | None | +2,099 | Unincorporated Areas of Henderson County, City of Hendersonville, Village of Flat Rock.
| Approximately 210 feet upstream of Rutledge Drive (State Road 1166) | None | +2,171
Kyles Creek | At the confluence with Clear Creek | None | +2,118 | Unincorporated Areas of Henderson County.
| Approximately 140 feet downstream of Terrys Gap Road (State Road 1565) | None | +2,187
Lanning Mill Creek | At the confluence with Kyles Creek | None | +2,176 | Unincorporated Areas of Henderson County.
| Approximately 800 feet upstream of the confluence with Kyles Creek | None | +2,187
Lewis Creek | At the confluence with Clear Creek | None | +2,126 | Unincorporated Areas of Henderson County.
| Approximately 80 feet downstream of Pilot Mountain Road (State Road 1783) | None | +2,169
Little Willow Creek | At Pleasant Grove Road (State Road 1191) | None | +2,083 | Unincorporated Areas of Henderson County.
| Approximately 1.6 miles upstream of the confluence with French Broad River | None | +2,113
Mill Pond Creek | Approximately 175 feet upstream of Hysong Lane | +2,076 | +2,075 | Unincorporated Areas of Henderson County.
| Approximately 0.4 mile upstream of Mountain Road (State Road 1381) | None | +2,202
Mills River | Approximately 0.6 mile upstream of Hooper Lane (State Road 1353) | None | +2,063 | Town of Mills River.
| At the confluence of North Fork Mills River and South Fork Mills River | None | +2,119
Mud Creek | Approximately 1.4 miles upstream of the confluence with French Broad River | +2,063 | +2,062 | Unincorporated Areas of Henderson County, City of Hendersonville, Town of Fletcher, Village of Flat Rock.
| Approximately 300 feet upstream of Walnut Cove Road (State Road 1125) | None | +2,161
North Fork Big Willow Creek | At the confluence with Big Willow Creek | None | +2,081 | Unincorporated Areas of Henderson County.
| Approximately 0.5 mile upstream of the confluence with Big Willow Creek | None | +2,099
North Fork Mills River | At the confluence with Mills River | None | +2,119 | Unincorporated Areas of Henderson County, Town of Mills River.
| Approximately 1.3 miles upstream of Rush Branch Road | None | +2,259
Perry Creek | At the confluence with Shepherd Creek | None | +2,131 | Unincorporated Areas of Henderson County.
| Approximately 1,530 feet upstream of Price Road (State Road 1137) | None | +2,147
Piney Branch | At the confluence with South Fork Big Willow Creek | None | +2,082 | Unincorporated Areas of Henderson County.
| Approximately 0.8 mile upstream of Big Willow Road (State Road 1191) | None | +2,218
Reedypatch Creek | At the confluence with Broad River | None | +1,461 | Unincorporated Areas of Henderson County.
| Approximately 540 feet upstream of Bald Rock Road (State Road 1710) | None | +2,176
Rock Creek (into Green River) | At the confluence with Green River | None | +2,067 | Unincorporated Areas of Henderson County.
| Approximately 0.5 mile upstream of Green River Road (State Road 1106) | None | +2,103
Shaw Creek | At the downstream side of U.S. 64 | None | +2,069 | Unincorporated Areas of Henderson County.
| Approximately 1,400 feet upstream of Turley Falls Road (State Road 1215) | None | +2,122
Shephard Creek | At South Lakeside Drive (State Road 1148) | None | +2,126 | Unincorporated Areas of Henderson County.
| At the confluence of Perry Creek and Finley Creek | None | +2,131
South Fork Big Willow Creek | At the confluence with Big Willow Creek | None | +2,081 | Unincorporated Areas of Henderson County.
| Approximately 1,810 feet upstream of Patterson Road (State Road 1194) | None | +2,103
South Fork Mills River | At the confluence with Mills River | None | +2,119 | Unincorporated Areas of Henderson County, Town of Mills River.
| Approximately 3.2 miles upstream of Dalton Road (State Road 1340) | None | +2,258
South Wash Creek | At the confluence with Wash Creek | None | +2,153 | Town of Laurel Park.
| Approximately 50 feet downstream of Lake Drive | None | +2,217
Tonys Creek | At the confluence with Shepherd Creek | None | +2,126 | Unincorporated Areas of Henderson County, Town of Laurel Park.
| Approximately 0.5 mile upstream of Willow Road (State Road 1171) | None | +2,201
Wash Creek | Approximately 400 feet upstream of the confluence with Mud Creek | +2,090 | +2,091 | Unincorporated Areas of Henderson County, City of Hendersonville, Town of Laurel Park.
| Approximately 330 feet upstream of Railroad | None | +2,202
Wolfpen Creek | Approximately 500 feet upstream of the confluence with Clear Creek | +2,092 | +2,091 | Unincorporated Areas of Henderson County, City of Hendersonville.
| Approximately 90 feet upstream of Chestnut Gap Road (State Road 1742) | None | +2,130
* National Geodetic Vertical Datum.
# Depth in feet above ground.
+ North American Vertical Datum.
ADDRESSES
City of Hendersonville
Maps are available for inspection at Hendersonville City Hall, 145 Fifth Avenue East, Hendersonville, North Carolina.
Send comments to The Honorable Greg Newman, Mayor of the City of Hendersonville, P.O. Box 1670, Hendersonville, North Carolina 28793.
Town of Fletcher
Maps are available for inspection at Fletcher Town Hall, 4005 Hendersonville Road, Fletcher, North Carolina.
Send comments to The Honorable Mark Biberdors, Mayor of the Town of Fletcher, 4005 Hendersonville Road, Fletcher, North Carolina 28732.
Town of Laurel Park
Maps are available for inspection at Laurel Park Town Hall, 441 White Pine Drive, Laurel Park, North Carolina.
Send comments to The Honorable Henry T. Johnson, Mayor of the Town of Laurel Park, 441 White Pine Drive, Laurel Park, North Carolina 28739.
Town of Mills River
Maps are available for inspection at Mills River Town Hall, 5046 Boylston Highway, Suite 3, Mills River, North Carolina.
Send comments to The Honorable Roger Snyder, Mayor of the Town of Mills River, 5046 Boylston Highway, Suite 3, Mills River, North Carolina 28759.
Unincorporated Areas of Henderson County
Maps are available for inspection at Henderson County Administration Building, 100 North King Street, Hendersonville, North Carolina.
Send comments to Mr. Steve Wyatt, Henderson County Manager, 100 North King Street, Hendersonville, North Carolina 28792.
Village of Flat Rock
Maps are available for inspection at Flat Rock Village Hall, 110 Village Center Drive, Flat Rock, North Carolina.
Send comments to The Honorable Ray E. Shaw, Jr., Mayor of the Village of Flat Rock, P.O. Box 1288, Flat Rock, North Carolina 28731.
Union County, North Carolina and Incorporated Areas
Adams Branch | At the confluence with Richardson Creek | None | +540 | Unincorporated Areas of Union County.
| Approximately 0.5 mile upstream of Richardson Road (SR 2158) | None | +629
Tributary 1 | At the confluence with Adams Branch | None | +569 | Unincorporated Areas of Union County.
| Approximately 0.6 mile upstream of the confluence with Adams Branch | None | +602
Austin Branch | At the confluence with Salem Creek | None | +486 | Unincorporated Areas of Union County.
| Approximately 0.6 mile upstream of Austin Grove Church Road (SR 1751) | None | +580
Barkers Branch | At the confluence with Lanes Creek | None | +430 | Unincorporated Areas of Union County.
| Approximately 1,990 feet upstream of Tanner Road (SR 1935) | None | +531
Bearskin Creek | Approximately 1,900 feet upstream of the confluence with Richardson Creek | +486 | +485 | Unincorporated Areas of Union County, City of Monroe.
| Approximately 360 feet upstream of Price Short Cut Road (SR 1351) | None | +636
Beaverdam Creek | At the confluence with Lanes Creek | None | +413 | Unincorporated Areas of Union County.
| Approximately 1.2 miles upstream of Russell Pope Road (SR 1948) | None | +571
Beaverdam Creek (West) | At the confluence with Richardson Creek | None | +520 | Unincorporated Areas of Union County.
| Approximately 0.6 mile upstream of Parks McCorkle Road (SR 1152) | None | +651
Beaverdam Creek Tributary 1 | At the confluence with Beaverdam Creek | None | +460 | Unincorporated Areas of Union County.
| Approximately 0.8 mile upstream of Doctor Blair Road (SR 1902) | None | +498
Tributary 1A | At the confluence with Beaverdam Creek Tributary 1 | None | +462 | Unincorporated Areas of Union County.
| Approximately 0.5 mile upstream of the confluence with Beaverdam Creek Tributary 1 | None | +492
Tributary 1B | At the confluence with Beaverdam Creek Tributary 1 | None | +464 | Unincorporated Areas of Union County.
| Approximately 1,570 feet upstream of the confluence of Beaverdam Creek Tributary 1B1 | None | +484
Tributary 1B1 | At the confluence with Beaverdam Creek Tributary 1B | None | +473 | Unincorporated Areas of Union County.
| Approximately 0.4 mile upstream of the confluence with Beaverdam Creek Tributary 1B | None | +483
Tributary 2 | At the confluence with Beaverdam Creek | None | +467 | Unincorporated Areas of Union County.
| Approximately 0.7 mile upstream of the confluence with Beaverdam Creek | None | +503
Becky Branch | At the confluence with Salem Creek | None | +440 | Unincorporated Areas of Union County.
| Approximately 0.9 mile upstream of the confluence with Becky Branch Tributary 2 | None | +500
Tributary 1 | At the confluence with Becky Branch | None | +440 | Unincorporated Areas of Union County.
| Approximately 0.4 mile upstream of Old Lawyers Road (SR 1736) | None | +491
Tributary 2 | At the confluence with Becky Branch | None | +465 | Unincorporated Areas of Union County.
| Approximately 280 feet upstream of Old Lawyers Road (SR 1736) | None | +510
Brandon Branch | At the confluence with Gold Branch | None | +439 | Unincorporated Areas of Union County.
| Approximately 950 feet upstream of Sugar and Wine Road (SR 1649) | None | +518
Brown Creek | Approximately 0.5 mile downstream of the Anson/Union County boundary | None | +326 | Unincorporated Areas of Union County, City of Monroe.
| Approximately 1.1 miles upstream of Canal Road (SR 1919) | None | +374
Tributary 5 | At the confluence with Brown Creek | None | +331 | Unincorporated Areas of Union County.
| Approximately 640 feet upstream of Zion Church Road | None | +354
Tributary 6 | At the confluence with Brown Creek | None | +337 | Unincorporated Areas of Union County.
| Approximately 980 feet upstream of Zion Church Road | None | +379
Buck Branch | At the confluence with Little Richardson Creek | None | +503 | Unincorporated Areas of Union County.
| Approximately 950 feet downstream of Magnum Dairy Road (SR 2108) | None | +599
Buffalo Creek | At the North Carolina/South Carolina State boundary | None | +501 | Unincorporated Areas of Union County.
| Approximately 0.9 mile upstream of Jack Davis Road (SR 2125) | None | +631
Tributary 1 | At the confluence with Buffalo Creek | None | +502 | Unincorporated Areas of Union County.
| Approximately 1,370 feet upstream of Trinity Church Road (SR 2153) | None | +594
Bull Branch | At the confluence with Richardson Creek | None | +425 | Unincorporated Areas of Union County.
| Approximately 1.2 miles upstream of Olive Branch Road (SR 1006) | None | +510
Camp Branch | At the confluence with Bearskin Creek | +584 | +585 | Unincorporated Areas of Union County, City of Monroe.
| Approximately 1,500 feet upstream of Weddington Road | None | +611
Carolina Creek | At the confluence with Lanes Creek | None | +469 | Unincorporated Areas of Union County.
| Approximately 0.7 mile upstream of Van Sneed Road (SR 1925) | None | +548
Cedar Branch | At the confluence with Lanes Creek | None | +446 | Unincorporated Areas of Union County.
| Approximately 0.6 mile upstream of the confluence with Lanes Creek | None | +485
Chinkapin Creek | At the confluence with Stewarts Creek | None | +492 | Unincorporated Areas of Union County, Town of Unionville.
| Approximately 820 feet upstream of Tom Helms Road | None | +551
Tributary 1 | At the confluence with Chinkapin Creek | None | +505 | Town of Unionville.
| Approximately 0.8 mile upstream of the confluence with Chinkapin Creek | None | +550
Tributary 2 | At the confluence with Chinkapin Creek | None | +515 | Town of Unionville.
| Approximately 900 feet upstream of Skies Mill Road | None | +570
Tributary 2A | At the confluence with Chinkapin Creek Tributary 2 | None | +523 | Town of Unionville.
| Approximately 0.5 mile upstream of Unionville Road | None | +568
Clear Creek | At the confluence with Rocky River | None | +469 | Town of Fairview.
| Approximately 1,400 feet upstream of the confluence of Long Branch | None | +486
Cool Spring Branch | At the confluence with Lanes Creek | None | +437 | Unincorporated Areas of Union County.
| Approximately 1.4 miles upstream of White Store Road (SR 1003) | None | +476
Cowpens Branch | At the confluence with Wicker Branch | None | +539 | Unincorporated Areas of Union County.
| Approximately 0.9 mile upstream of Medlin Road (SR 2102) | None | +608
Crisco Branch | At the confluence with Rocky River | None | +348 | Unincorporated Areas of Union County.
| Approximately 1.5 miles upstream of the confluence with Rocky River | None | +436
Crooked Creek | At the confluence with Rocky River | None | +426 | Unincorporated Areas of Union County, Town of Fairview.
| At the confluence of North Fork Crooked Creek and South Fork Crooked Creek | +569 | +570
Tributary 1 | At the confluence with Crooked Creek | +562 | +565 | Town of Fairview, Town of Unionville.
| Approximately 0.4 mile upstream of Clontz Long Road | None | +592
Dry Fork | At the confluence with Bearskin Creek | +582 | +581 | City of Monroe.
| Approximately 1,300 feet upstream of North Rocky Road (SR 1007) | None | +638
Duck Creek | At the confluence with Goose Creek | None | +468 | Unincorporated Areas of Union County, Town of Fairview.
| Approximately 0.8 mile upstream of the confluence with Duck Creek Tributary 3 | None | +575
Tributary 1 | At the confluence with Duck Creek | None | +483 | Town of Fairview.
| Approximately 0.4 mile upstream of the confluence with Duck Creek | None | +496
Tributary 2 | At the confluence with Duck Creek | None | +509 | Town of Fairview.
| Approximately 60 feet downstream of Crowell Dairy Road | None | +560
Tributary 3 | At the confluence with Duck Creek | None | +537 | Unincorporated Areas of Union County.
| Approximately 0.7 mile upstream of Rock Hill Church Road (SR 1539) | None | +614
East Fork Stewarts Creek | Approximately 110 feet upstream of the confluence with Stewarts Creek | +536 | +537 | Unincorporated Areas of Union County, Town of Unionville.
| Approximately 1.2 miles upstream of the confluence of East Fork Stewarts Creek Tributary 1 | None | +597
Tributary 1 | At the confluence with East Fork Stewarts Creek | None | +572 | Unincorporated Areas of Union County, Town of Unionville.
| Approximately 1,840 feet upstream of the confluene of East Fork Stewarts Creek Tributary 1A | None | +586
Tributary 1A | At the confluence with East Fork Stewarts Creek Tributary 1 | None | +578 | Unincorporated Areas of Union County.
| Approximately 68 feet upstream of the confluence with East Fork Stewarts Creek Tributary 1 | None | +590
East Fork Twelvemile Creek | Approximately 0.4 mile upstream of the confluence with Twelvemile Creek and West Fork Twelvemile Creek | +511 | +510 | Unincorporated Areas of Union County, Town of Indian Trail, Town of Mineral Springs, Town of Waxhaw, Village of Wesley Chapel.
| Approximately 1,710 feet upstream of Grayson Parkway | None | +621
Flag Branch | At the confluence with Chinkapin Creek | None | +494 | Unincorporated Areas of Union County, Town of Unionville.
| Approximately 180 feet upstream of Morgan Mill Road | None | +524
Gibbs Branch | At the confluence with Mill Creek (South) | None | +519 | Unincorporated Areas of Union County.
| Approximately 230 feet upstream of Arant Road (SR 2117) | None | +555
Gold Branch | At the confluence with Richardson Creek | None | +396 | Unincorporated Areas of Union County.
| Approximately 0.9 mile upstream of New Salem Road (SR 1627) | None | +506
Gold Branch (East) | At the confluence with Grapevine Creek | None | +449 | Unincorporated Areas of Union County.
| Approximately 0.5 mile upstream of Marshville Olive Branch Road (SR 1719) | None | +503
Goose Creek | At the confluence with Rocky River | None | +466 | Unincorporated Areas of Union County, Town of Fairview, Town of Indian Trail, Town of Stallings.
| At the Mecklenburg/Union County boundary | None | +627
Tributary 1 | At the confluence with Goose Creek | None | +468 | Town of Fairview.
| Approximately 50 feet downstream of Roy Kindley Road | None | +524
Tributary 2 | At the confluence with Goose Creek | +521 | +520 | Town of Fairview.
| Approximately 0.6 mile upstream of the confluence with Goose Creek | None | +536
Tributary 3 | Approximately 800 feet upstream of the confluence with Goose Creek | +539 | +540 | Unincorporated Areas of Union County, Town of Indian Trail.
| Approximately 0.7 mile upstream of the confluence with Goose Creek | None | +556
Tributary 4 | Approximately 350 feet upstream of the confluence with Goose Creek | +592 | +593 | Town of Indian Trail, Town of Stallings.
| Approximately 1.4 miles upstream of the confluence with Goose Creek | None | +660
Grapevine Creek | At the confluence with Richardson Creek | None | +360 | Unincorporated Areas of Union County.
| Approximately 1.3 miles upstream of the confluence of Gold Branch (East) | None | +495
Tributary 1 | At the confluence with Grapevine Creek | None | +418 | Unincorporated Areas of Union County.
| Approximately 530 feet upstream of Lucy Short Cut Road (SR 1745) | None | +459
Tributary 2 | At the confluence with Grapevine Creek | None | +434 | Unincorporated Areas of Union County.
| Approximately 0.6 mile upstream of the confluence with Grapevine Creek | None | +479
Grassy Branch | At the confluence with Crooked Creek | None | +518 | Unincorporated Areas of Union County, Town of Fairview, Town of Unionville.
| Approximately 390 feet upstream of West Lawyers Road (SR 1675) | None | +614
Tributary 1 | At the confluence with Grassy Branch | None | +549 | Town of Unionville.
| Approximately 1,520 feet upstream of Unionville Road | None | +569
Grassy Creek | At the confluence with Rocky River | None | +374 | Unincorporated Areas of Union County.
| Approximately 0.6 mile upstream of Braswell-Rushing Road | None | +566
Tributary 1 | At the confluence with Rocky River | None | +459 | Unincorporated Areas of Union County.
| Approximately 550 feet upstream of Morgan Mill Road | None | +502
Tributary 2 | At the confluence with Grassy Creek | None | +498 | Unincorporated Areas of Union County.
| Approximately 0.5 mile upstream of the confluence with Grassy Creek | None | +516
Gum Log Branch | At the confluence with Lanes Creek | None | +522 | Unincorporated Areas of Union County.
| Approximately 0.8 mile upstream of Jack Davis Road (SR 2125) | None | +586
Half Way Branch | At the confluence with Meadow Branch | None | +506 | Unincorporated Areas of Union County, Town of Wingate.
| Approximately 160 feet upstream of West Elm Street | None | +563
Haney Branch | At the confluence with Beaverdam Creek | None | +483 | Unincorporated Areas of Union County.
| Approximately 630 feet upstream of Old Pageland Marshville Road (SR 1937) | None | +520
Jacks Branch | At the confluence with Salem Creek | None | +412 | Unincorporated Areas of Union County.
| Approximately 0.4 mile downstream of Henry Ellis Drive | None | +531
Tributary 1 | At the confluence with Jacks Branch | None | +481 | Unincorporated Areas of Union County.
| Approximately 0.4 mile upstream of the confluence with Jacks Branch | None | +492
Lacey Branch | At the Union/Anson County boundary | None | +445 | Unincorporated Areas of Union County.
| Approximately 0.8 mile upstream of the confluence of Lacey Branch Tributary 2 | None | +506
Tributary 1 | At the confluence with Lacey Branch | None | +479 | Unincorporated Areas of Union County.
| Approximately 1,610 feet upstream of the confluence with Lacey Branch | None | +496
Tributary 2 | At the confluence with Lacey Branch | None | +481 | Unincorporated Areas of Union County.
| Approximately 650 feet upstream of Brice Griffin Road (SR 1727) | None | +502
Lanes Creek | Approximately 0.7 mile upstream of Hasty Road (SR 1901) | None | +412 | Unincorporated Areas of Union County.
| Approximately 1,310 feet upstream of Jack Davis Road (SR 2125) | None | +624
Tributary 6 | At the confluence with Lanes Creek | None | +438 | Unincorporated Areas of Union County.
| Approximately 1,770 feet upstream of the confluence with Lanes Creek | None | +442
Tributary 7 | At the confluence with Lanes Creek | None | +444 | Unincorporated Areas of Union County.
| Approximately 0.6 mile upstream of the confluence with Lanes Creek | None | +482
Tributary 8 | At the confluence with Lanes Creek | None | +455 | Unincorporated Areas of Union County.
| Approximately 1.1 miles upstream of the confluence with Lanes Creek | None | +514
Tributary 9 | At the confluence with Lanes Creek | None | +461 | Unincorporated Areas of Union County.
| Approximately 0.4 mile upstream of Smith Town Road (SR 1915) | None | +483
Lee Branch | At the confluence with Bates Branch | None | +541 | Unincorporated Areas of Union County, Town of Mineral Springs.
| Approximately 375 feet downstream of Waxhaw-Monroe Road (State Route 1111) | None | +618
Lick Branch (East) | At the confluence with Lanes Creek | None | +413 | Unincorporated Areas of Union County, Town of Marshville.
| Approximately 410 feet upstream of West Main Street | None | +557
Tributary 1 | At the confluence with Lick Branch (East) | None | +493 | Unincorporated Areas of Union County, Town of Marshville.
| Approximately 1.0 mile upstream of the confluence with Lick Branch (East) | None | +517
Lick Branch (East) Tributary 1A | At the confluence with Lick Branch (East) Tributary 1 | None | +496 | Unincorporated Areas of Union County, Town of Marshville.
| Approximately 0.3 mile upstream of Traywick Road | None | +517
Lick Branch (West) | Approximately 230 feet upstream of the confluence with Stewarts Creek | None | +535 | City of Monroe.
| Approximately 170 feet upstream of US Highway 74 | None | +586
Tributary 1 | At the confluence with Lick Branch (West) | None | +576 | City of Monroe.
| Approximately 710 feet upstream of the confluence with Lick Branch (West) | None | +582
Little Brown Creek | At the confluence with Brown Creek | None | +351 | Unincorporated Areas of Union County.
| Approximately 190 feet upstream of the confluence with Wallace Branch | None | +396
Little Mill Creek | At the confluence with Mill Creek | None | +466 | Unincorporated Areas of Union County, Town of Unionville.
| Approximately 120 feet upstream of Lark Trail | None | +551
Little Richardson Creek | At the confluence with Richardson Creek | None | +495 | Unincorporated Areas of Union County, City of Monroe.
| Approximately 1,980 feet upstream of Bruce Thomas Road (SR 2132) | None | +604
Tributary 1 | At the confluence with Little Richardson Creek | None | +495 | Unincorporated Areas of Union County, City of Monroe.
| Approximately 0.8 mile upstream of the confluence with Little Richardson Creek | None | +533
Tributary 2 | At the confluence with Little Richardson Creek | None | +556 | Unincorporated Areas of Union County.
| Approximately 620 feet upstream of Troy Medlin Road (SR 2131) | None | +606
Tributary 3 | At the confluence with Little Richardson Creek | None | +581 | Unincorporated Areas of Union County.
| Approximately 1.6 miles upstream of the confluence with Richardson Creek | None | +624
Little Twelvemile Creek | At the confluence with East Fork Twelvemile Creek | +526 | +527 | Unincorporated Areas of Union County, Town of Mineral Springs.
| Approximately 0.9 mile upstream of Crow Road | None | +635
Little Watson Branch | At the confluence with Water Branch | None | +314 | Unincorporated Areas of Union County.
| Approximately 250 feet downstream of NC 218 Highway | None | +437
Tributary 1 | At the confluence with Little Watson Branch | None | +341 | Unincorporated Areas of Union County.
| Approximately 360 feet upstream of Burnsville Road (SR 1714) | None | +418
Long Branch | At the confluence with Clear Creek | None | +483 | Town of Fairview.
| Approximately 0.9 mile upstream of the confluence with Clear Creek | None | +533
Lynches Creek | At the confluence with Rays Fork | None | +492 | Unincorporated areas of Union County, City of Monroe.
| Approximately 1.1 miles upstream of Old Pageland-Monroe Road (SR 1941) | None | +603
Lynches River | At the North Carolina/South Carolina State boundary | None | +483 | Unincorporated areas of Union County.
| Approximately 0.7 mile upstream of Circle Ranch Road (SR 2161) | None | +641
Tributary 1 | At the confluence with Lynches River | None | +546 | Unincorporated areas of Union County.
| Approximately 1,640 feet upstream of Trinity Church Road (SR 2166) | None | +583
Tributary 2 | At the confluence with Lynches River | None | +609 | Unincorporated areas of Union County.
| Approximately 0.5 mile upstream of the confluence with Lynches River | None | +619
Maness Branch | Approximately 400 feet downstream of the Union/Anson County boundary | None | +436 | Unincorporated areas of Union County.
| Approximately 1,020 feet upstream of Nance Tarlton Road (SR 1724) | None | +493
Maple Springs Branch | At the confluence with Beaverdam Creek | None | +490 | Unincorporated areas of Union County.
| Approximately 0.9 mile upstream of Faulks Church Road (SR 1947) | None | +518
Meadow Branch | At the confluence with Richardson Creek | None | +433 | Unincorporated areas of Union County, Town of Wingate.
| Approximately 970 feet downstream of Old Highway Road (SR 1740) | None | +553
Tributary 1 | At the confluence with Meadow Branch | None | +490 | Unincorporated areas of Union County.
| Approximately 0.7 mile upstream of McIntyre Road (SR 1631) | None | +550
Tributary 2 | At the confluence with Meadow Branch | None | +503 | Unincorporated areas of Union County.
| Approximately 180 feet downstream of Austin Chaney Road (SR 1758) | None | +565
Tributary 3 | At the confluence with Meadow Branch | None | +505 | Unincorporated areas of Union County.
| Approximately 240 feet downstream of Wade Rorie Road (SR 1788) | None | +549
Middle Fork | At the confluence with Rays Fork | None | +492 | Unincorporated areas of Union County, City of Monroe.
| Approximately 450 feet upstream of Old Monroe Marshville Road (SR 1957) | None | +560
Mill Creek | At the confluence with Richardson Creek | None | +443 | Unincorporated areas of Union County, Town of Unionville.
| Approximately 300 feet upstream of Supreme Drive | None | +516
Mill Creek (South) | At the confluence with Lanes Creek | None | +495 | Unincorporated areas of Union County.
| Approximately 700 feet upstream of Budyler Road (SR 2116) | None | +545
Mountain Springs Branch | At the confluence with Wicker Branch | None | +561 | Unincorporated areas of Union County.
| Approximately 0.4 mile upstream of Joe Griffin Road (SR 1945) | None | +593
Mundys Run | At the confluence with Mundys Run | None | +562 | Town of Weddington.
Tributary 1 | Approximately 1,130 feet upstream of Skytop Road | None | +613
Norkett Branch | At the confluence with Lanes Creek | None | +439 | Unincorporated areas of Union County.
| Approximately 1,510 feet downstream of Lansford Road (SR 1005) | None | +482
North Fork Crooked Creek | At the confluence with Crooked Creek | +569 | +570 | Unincorporated areas of Union County, Town of Fairview, Town of Hemby Bridge, Town of Indian Trail, Town of Stallings.
| Approximately 850 feet upstream of Stevens Mill Road | None | +676
Tributary | At the confluence with North Fork Crooked Creek | +630 | +632 | Unincorporated areas of Union County, Town of Hemby Bridge, Town of Stallings.
| Approximately 0.7 mile upstream of Stevens Mill Road (SR 1524) | +659 | +658
Tributary 1 | Approximately 0.4 mile upstream of the confluence with North Fork Crooked Creek | +589 | +590 | Unincorporated areas of Union County, Town of Indian Trail.
| Approximately 0.5 mile upstream of Poplin Road (SR 1508) | None | +617
Tributary 3 | At the confluence with North Fork Crooked Creek | +624 | +622 | Unincorporated areas of Union County, Town of Hemby Bridge, Town of Indian Trail.
| Approximately 1.0 mile upstream of Stinson Hartis Road | None | +657
Tributary 4 | At the confluence with North Fork Crooked Creek | None | +650 | Unincorporated areas of Union County, Town of Indian Trail, Town of Stallings.
| Approximately 210 feet downstream of Union West Boulevard | None | +667
Tributary 5 | At the confluence with North Fork Crooked Creek | None | +664 | Town of Stallings.
| Approximately 1,740 feet upstream of the confluence with North Fork Crooked Creek | None | +674
Tributary 6 | At the confluence with North Fork Crooked Creek | None | +643 | Unincorporated areas of Union County, Town of Stallings.
| Approximately 1,850 feet upstream of Stallings Road | None | +720
Tributary A | At the confluence with North Fork Crooked Creek | +595 | +598 | Unincorporated areas of Union County, Town of Indian Trail.
| At the downstream side of Secrest Short Cut Road (State Road 1501) | +623 | +622
Tributary B | At the confluence with North Fork Crooked Creek Tributary A | +604 | +602 | Unincorporated areas of Union County, Town of Indian Trail.
| Approximately 850 feet upstream of Secrest Short Cut Road | None | +619
Paddle Branch | Approximately 800 feet upstream of the confluence with Goose Creek | None | +526 | Unincorporated areas of Union County, Town of Indian Trail, Town of Stallings.
| Approximately 0.6 mile upstream of Flagstick Drive | None | +635
Polecat Creek | At the North Carolina/South Carolina State boundary | None | +534 | Unincorporated areas of Union County.
| Approximately 360 feet upstream of Irby Road (SR 2170) | None | +630
Tributary 1 | At the confluence with Polecat Creek | None | +588 | Unincorporated areas of Union County.
| Approximately 0.6 mile upstream of Carl Belk Road (SR 2168) | None | +610
Price Mill Creek | At the confluence with East Fork Twelvemile Creek | +545 | +548 | Unincorporated Areas of Union County, Town of Indian Trail, Village of Wesley Chapel.
| Approximately 650 feet upstream of Kennerly Drive | None | +650
Racoon Branch | At the confluence with Buffalo Creek | None | +573 | Unincorporated Areas of Union County.
| Approximately 1.4 miles upstream of Trinity Church Road (SR 2166) | None | +623
Rays Fork | At the confluence with Richardson Creek | None | +461 | Unincorporated Areas of Union County, City of Monroe, Town of Wingate.
| Approximately 1,680 feet upstream of White Store Road (SR 1003) | None | +607
Reason Branch | At the confluence with Rocky River | None | +362 | Unincorporated Areas of Union County.
| Approximately 1.3 miles upstream of Morgan Academy Road (SR 1661) | None | +461
Reedy Branch | At the confluence with Beaverdam Creek | None | +515 | Unincorporated Areas of Union County.
| Approximately 0.6 mile upstream of Camden Road (SR 1934) | None | +554
Richardson Creek | Approximately 450 feet downstream of the Anson/Union County boundary | None | +294 | Unincorporated Areas of Union County, City of Monroe.
| Approximately 2.0 miles upstream of Griffith Road (SR 2139) | None | +635
Tributary 1 | At the confluence with Richardson Creek | None | +377 | Unincorporated Areas of Union County.
| Approximately 180 feet upstream of Dusty Lane (SR 1718) | None | +394
Tributary 2 | At the confluence with Richardson Creek | None | +377 | Unincorporated Areas of Union County.
| Approximately 1,390 feet upstream of the confluence with Richardson Creek | None | +399
Tributary 3 | At the confluence with Richardson Creek | None | +382 | Unincorporated Areas of Union County.
| Approximately 0.4 mile upstream of the confluence with Richardson Creek | None | +397
Tributary 4 | At the confluence with Richardson Creek | None | +384 | Unincorporated Areas of Union County.
| Approximately 1,050 feet upstream of the confluence with Richardson Creek | None | +395
Tributary 5 | At the confluence with Richardson Creek | None | +403 | Unincorporated Areas of Union County.
| Approximately 830 feet upstream of New Salem Road (SR 1627) | None | +506
Tributary 6 | At the confluence with Richardson Creek | None | +407 | Unincorporated Areas of Union County.
| Approximately 0.7 mile upstream of Tarlton Mill Road (SR 1649) | None | +441
Tributary 7 | At the confluence with Richardson Creek | None | +416 | Unincorporated Areas of Union County.
| Approximately 1.2 miles upstream of the confluence with Richardson Creek | None | +495
Tributary A | At the confluence with Richardson Creek | None | +298 | Unincorporated Areas of Union County.
| Approximately 850 feet upstream of Fish Road (SR 1706) | None | +335
Rocky River | At the Anson/Stanly/Union County boundary | None | +302 | Unincorporated Areas of Union County, Town of Fairview.
| At the confluence with Clear Creek | None | +469
Tributary 5 | At the confluence with Rocky River | None | +306 | Unincorporated Areas of Union County.
| Approximately 1.5 miles upstream of the confluence with Rocky River | None | +364
Tributary 6 | At the confluence with Rocky River | None | +329 | Unincorporated Areas of Union County.
| Approximately 1,180 feet upstream of Old Kennedy Ford Road | None | +400
Tributary 7 | At the confluence with Rocky River | None | +343 | Unincorporated Areas of Union County.
| Approximately 500 feet downstream of Old Kennedy Ford Road (SR 1711) | None | +429
Rone Branch Tributary 1 | At the confluence with Rone Branch | None | +515 | Unincorporated Areas of Union County.
| Approximately 0.7 mile upstream of the confluence with Rone Branch | None | +560
Salem Creek | At the confluence with Richardson Creek | None | +387 | Unincorporated Areas of Union County
| Approximately 880 feet upstream of US Highway 74 | None | +519
Tributary 1 | At the confluence with Salem Creek | None | +465 | Unincorporated Areas of Union County.
| Approximately 840 feet upstream of Angel Desse Road | None | +516
Tributary 2 | At the confluence with Salem Creek | None | +472 | Unincorporated Areas of Union County, Town of Marshville.
| Approximately 900 feet downstream of Austin Grove Church Road | None | +510
Sixmile Creek Tributary 2 | At the confluence with Sixmile Creek | +593 | +597 | Unincorporated Areas of Union County.
| Approximately 1.2 miles upstream of the confluence with Sixmile Creek | None | +633
Small Branch | At the confluence with South Fork Crooked Creek | +637 | +639 | Town of Indian Trail.
| Approximately 270 feet upstream of Waxhaw-Indian Road | None | +668
Small Drain | At the confluence with Small Branch | None | +657 | Town of Indian Trail.
| Approximately 50 feet upstream of Unionville-Indian Trail Road | None | +669
Smith Branch | At the confluence with Grapevine Creek | None | +415 | Unincorporated Areas of Union County.
| Approximately 930 feet upstream of Marshville Olive Branch Road (SR 1719) | None | +466
South Fork Crooked Creek | At the confluence with Crooked Creek | +569 | +570 | Unincorporated Areas of Union County, City of Monroe, Town of Fairview, Town of Indian Trail, Town of Stallings, Town of Unionville.
| Approximately 1,900 feet upstream of Kelly Drive | None | +759
Tributary 1 | At the confluence with South Fork Crooked Creek | +573 | +574 | Town of Unionville.
| Approximately 930 feet upstream of Unionville-Indian Trail Road | None | +602
Tributary 2 | At the confluence with South Fork Crooked Creek | +588 | +589 | Unincorporated Areas of Union County.
| Approximately 900 feet upstream of Unionville-Indian Trail Road | None | +603
Tributary 3 | At the confluence with South Fork Crooked Creek | +612 | +614 | Unincorporated Areas of Union County, Town of Indian Trail.
| Approximately 610 feet upstream of the railroad | None | +640
Tributary 4 | Approximately 750 feet upstream of the confluence with South Fork Crooked Creek | +622 | +623 | Unincorporated Areas of Union County, Town of Indian Trail.
| Approximately 190 feet upstream of Sun Valley Drive | None | +629
Tributary 5 | At the confluence with South Fork Crooked Creek | +627 | +629 | Town of Indian Trail, Village of Lake Park.
| Approximately 700 feet upstream of Brooktree Lane | None | +638
Tributary 5A | At the confluence with South Fork Crooked Creek Tributary 5 | None | +631 | Town of Indian Trail, Village of Lake Park.
| Approximately 1,050 feet upstream of Lake Park Road | None | +643
Tributary 6 | At the confluence with South Fork Crooked Creek | +629 | +631 | Town of Indian Trail.
| Approximately 0.4 mile upstream of Unionville-Indian Trail Road | None | +640
Stegall Branch | At the confluence with Richardson Creek | None | +357 | Unincorporated Areas of Union County.
| Approximately 1.1 miles upstream of the confluence with Richardson Creek | None | +416
Stewarts Creek | At the confluence with Richardson Creek | None | +454 | Unincorporated Areas of Union County, City of Monroe.
| Approximately 280 feet downstream of Myers Road | None | +625
Tributary 1 | Approximately 1,000 feet upstream of the confluence with Stewarts Creek | None | +526 | City of Monroe.
| Approximately 650 feet upstream of Sunnybrook Drive | None | +567
Tributary 2 | Approximately 650 feet upstream of the confluence with Stewarts Creek | None | +545 | Unincorporated Areas of Union County, City of Monroe.
| Approximately 480 feet upstream of Rolling Hills Drive | None | +561
Tributary 3 | Approximately 550 feet upstream of the confluence with Stewarts Creek | None | +549 | City of Monroe.
| Approximately 230 feet downstream of Fox Hunt Drive | None | +572
Tributary 4 | Approximately 600 feet upstream of the confluence with Stewarts Creek | None | +606 | City of Monroe.
| Approximately 0.5 mile upstream of the confluence with Stewarts Creek | None | +619
Still Branch | At the confluence with Richardson Creek | None | +514 | City of Monroe.
| Approximately 0.5 mile upstream of the confluence with Richardson Creek | None | +521
Stumplick Branch | Approximately 250 feet upstream of the confluence with Stewarts Creek | None | +507 | Unincorporated Areas of Union County, Town of Unionville.
| Approximately 560 feet downstream of C. J. Thomas Road | None | +596
Tributary 1 | At the confluence with Stumplick Branch | None | +573 | Town of Unionville.
| Approximately 0.5 mile upstream of Hillcrest Church Road | None | +600
Wallace Branch | At the confluence with Little Brown Creek | None | +393 | Unincorporated Areas of Union County.
| Approximately 1.2 miles upstream of Cheraw Road (SR 1929) | None | +496
Water Branch | At the confluence with Richardson Creek | None | +310 | Unincorporated Areas of Union County.
| Approximately 0.8 mile upstream of NC Highway 218 | None | +462
Tributary 1 | At the confluence with Water Branch | None | +372 | Unincorporated Areas of Union County.
| Approximately 0.5 mile upstream of the confluence with Water Branch | None | +395
Watson Creek | At the confluence with Richardson Creek | None | +412 | Unincorporated Areas of Union County.
| Approximately 1,410 feet upstream of Baucom Road | None | +516
Waxhaw Branch | At the confluence with Lanes Creek | None | +456 | Unincorporated Areas of Union County.
| Approximately 0.9 mile upstream of Synder Store Road (SR 1945) | None | +593
Tributary 1 | At the confluence with Waxhaw Branch | None | +505 | Unincorporated Areas of Union County.
| Approximately 0.5 mile upstream of Edwards Road (SR 1943) | None | +534
Wicker Branch | At the confluence with Lanes Creek | None | +475 | Unincorporated Areas of Union County.
| Approximately 0.7 mile upstream of US Highway 601 | None | +597
Wide Mouth Branch | At the Anson/Union County boundary | None | +406 | Unincorporated Areas of Union County.
| Approximately 510 feet upstream of Old Peachland Street (SR 1735) | None | +493
* National Geodetic Vertical Datum.
+ North American Vertical Datum.
# Depth in feet above ground.
ADDRESSES
City of Monroe
Maps are available for inspection at City of Monroe Planning Department, 300 West Crowell Street, Monroe, North Carolina.
Send comments to The Honorable Bobby Kilgore, Mayor of the City of Monroe, 300 West Crowell Street, Monroe, North Carolina 28112.
Town of Fairview
Maps are available for inspection at Fairview Town Hall, 7608 Concord Highway, Monroe, North Carolina.
Send comments to The Honorable Richard Williams, Mayor of the Town of Fairview, 1519 Highway 218 East, Monroe, North Carolina 28110.
Town of Hemby Bridge
Maps are available for inspection at Hemby Bridge Town Hall, 5811 Fairview-Indian Trail Road, Hemby Bridge, North Carolina.
Send comments to The Honorable James Simpson, Jr., Mayor of the Town of Hemby Bridge, 7310 Secrest Shortcut Road, Indian Trail, North Carolina 28079.
Town of Indian Trail
Maps are available for inspection at Indian Trail Planning Department, 109 Navejo Trail Road, Indian Trail, North Carolina.
Send comments to The Honorable Sandy Moore, Mayor of the Town of Indian Trail, 4900 Pioneer Lane, Indian Trail, North Carolina 28079.
Town of Marshville
Maps are available for inspection at Marshville Town Hall, 201 West Main Street, Marshville, North Carolina.
Send comments to The Honorable Frank Deese, Mayor of the Town of Marshville, 201 West Main Street, Marshville, North Carolina 28103.
Town of Mineral Springs
Maps are available for inspection at Town of Mineral Springs Volunteer Fire and Rescue Department, 5804 Waxhaw Highway, Mineral Springs, North Carolina.
Send comments to The Honorable Rick Becker, Mayor of the Town of Mineral Springs, 6603 Sadler Road, Waxhaw, North Carolina 28173.
Town of Stallings
Maps are available for inspection at Stallings Town Hall, 315 Stallings Road, Stallings, North Carolina.
Send comments to The Honorable Lynda Paxton, Mayor of the Town of Stallings, 112 Eaglecrest Drive, Stallings, North Carolina 28104.
Town of Unionville
Maps are available for inspection at Unionville Town Hall, 1102 Unionville Church Road, Monroe, North Carolina.
Send comments to The Honorable Larry Simpson, Mayor of the Town of Unionville, 4108 Briarcliff Drive, Monroe, North Carolina 28110.
Town of Waxhaw
Maps are available for inspection at Waxhaw Town Hall, 317 North Broome Street, Waxhaw, North Carolina.
Send comments to The Honorable Gary Underwood, Mayor of the Town of Waxhaw, P.O. Box 6, Waxhaw, North Carolina 28173.
Town of Weddington
Maps are available for inspection at Weddington Town Hall, 1924 Weddington Road, Weddington, North Carolina.
Send comments to he Honorable Nancy Anderson, Mayor of the Town of Weddington, 1924 Weddington Road, Weddington, North Carolina 28104.
Town of Wingate
Maps are available for inspection at Wingate Town Hall, 3918 Highway 74 East, Wingate, North Carolina.
Send comments to The Honorable Tony E. Maye, Mayor of the Town of Wingate, P.O. Box 234, Wingate, North Carolina 28174.
Unincorporated Areas of Union County
Maps are available for inspection at Union County Planning Department, 407 North Main Street, Room 149, Monroe, North Carolina.
Send comments to Mr. Richard Black, Union County Manager, 500 North Main Street, Room 925, Monroe, North Carolina 28112.
Watauga County, North Carolina and Incorporated Areas
Beech Creek | At the confluence with Watauga River | None | +2,446 | Unincorporated Areas of Watauga County.
| Approximately 1,080 feet upstream of the confluence of Buckeye Creek | None | +2,776
Brushy Fork | Approximately 100 feet downstream of U.S. 421 Highway N | +2,723 | +2,724 | Unincorporated Areas of Watauga County.
| Approximately 700 feet upstream of Adams Cemetery Road (State Road 1375) | None | +2,893
Buckeye Creek | At the confluence with Beech Creek | None | +2,731 | Unincorporated Areas of Watauga County.
| Approximately 0.7 mile upstream of Blevins Road | None | +2,940
Cove Creek | At the confluence with Watauga River | +2,633 | +2,637 | Unincorporated Areas of Watauga County.
| Approximately 620 feet upstream of Hill Road | None | +3,083
Laurel Fork | At the confluence with Watauga River | +2,740 | +2,739 | Unincorporated Areas of Watauga County, Town of Boone.
| Approximately 1,400 feet upstream of George Wilson Road | None | +3,357
Watauga River | At the Watauga County boundary | None | +2,142 | Unincorporated Areas of Watauga County.
| Approximately 30 feet upstream of The Glens Boulevard | +3,598 | +3,596
* National Geodetic Vertical Datum.
+ North American Vertical Datum.
# Depth in feet above ground.
ADDRESSES
Town of Boone
Maps are available for inspection at the Town of Boone Planning and Inspections Office, 1500 Blowing Rock Road, Boone, North Carolina.
Send comments to The Honorable Loretta Clawson, Mayor of the Town of Boone, P.O. Drawer 192, Boone, North Carolina 28607.
Unincorporated Areas of Watauga County
Maps are available for inspection at the Watauga County Planning & Inspections Department, 331 Queen Street, Suite 8, Boone, North Carolina.
Send comments to Mr. Jim Deal, Chairman of the Watauga County Board of Commissioners, 814 West King Street, Suite 204, Boone, North Carolina 28607.

(Catalog of Federal Domestic Assistance No. 97.022, “Flood Insurance.”)

Dated: July 16, 2007.
David I. Maurstad,
Federal Insurance Administrator of the National Flood Insurance Program, Department of Homeland Security, Federal Emergency Management Agency.

[FR Doc. 07-3615 Filed 7-24-07; 8:45 am]

BILLING CODE 9110-12-P